DEPARTMENT OF HOMELAND SECURITY

Coast Guard

[Docket No. USCG-2020-0485]

Notification of the Removal of Conditions of Entry on Vessels Arriving From the Republic of Liberia

AGENCY: Coast Guard, DHS.

ACTION: Notice.

SUMMARY: The Coast Guard announces that it is removing the conditions of entry on vessels arriving from the country of the Republic of Liberia.

DATES: The policy announced in this notice is effective on December 22, 2020.

FOR FURTHER INFORMATION CONTACT: For information about this document call or email D.R. McBryde, International Port Security Evaluation Division, United States Coast Guard, telephone 202-372-1213, doris.r.mcbryde@uscg.mil.

SUPPLEMENTARY INFORMATION:

Discussion: The authority for this notice is 5 U.S.C. 552(a) (“Administrative Procedure Act”), 46 U.S.C. 70110 (“Maritime Transportation Security Act”), and Department of Homeland Security Delegation No. 0170.1(II)(97.f). As delegated, section 70110(a) authorizes the Coast Guard to impose conditions of entry on vessels arriving in U.S. waters from ports that the Coast Guard has not found to maintain effective anti-terrorism measures. It also requires public notice of the ineffective anti-terrorism measures. The Secretary has delegated to the Coast Guard authority to carry out the provisions of this section.

On May 2, 2005 the the Coast Guard published a Notice in the Federal Register, (70 FR 22668), announcing that it had determined that effective anti-terrorism measures were not in place in the ports of the Republic of Liberia. Accordingly, conditions of entry were imposed on vessels that visited the Republic of Liberia in their last five port calls. Based on recent assessments conducted in 2018, the Coast Guard has determined that the Republic of Liberia is maintaining effective anti-terrorism measures, and is accordingly removing the conditions of entry announced in the previously published Notice. With this notice, the current list of countries assessed and not maintaining effective anti-terrorism measures is as follows: Cambodia, Cameroon, Comoros, Cote d'Ivoire, Djibouti, Equatorial Guinea, The Gambia, Guinea-Bissau, Iran, Iraq, Libya, Madagascar, Micronesia, Nauru, Nigeria, Republic of Seychelles, Sao Tome and Principe, Syria, Timor-Leste, Venezuela, Yemen. The current Port Security Advisory is available at: http://www.dco.uscg.mil/Our-Organization/Assistant-Commandant-for-Prevention-Policy-CG-5P/International-Domestic-Port-Assessment/.

Dated: December 16, 2020.
Scott A. Buschman,
Vice Admiral, Deputy Commandant for Operations, U.S. Coast Guard.

[FR Doc. 2020-28162 Filed 12-21-20; 8:45 am]

BILLING CODE 9110-04-P